DEPARTMENT OF HEALTH AND HUMAN SERVICES

National Institute for Occupational Safety and Health; Decision To Evaluate a Petition To Designate a Class of Employees for the Bliss & Laughlin Steel Facility, in Buffalo, NY, To Be Included in the Special Exposure Cohort

AGENCY: National Institute for Occupational Safety and Health (NIOSH), Department of Health and Human Services (HHS).

ACTION: Notice.

SUMMARY: HHS gives notice as required by 42 CFR 83.12(e) of a decision to evaluate a petition to designate a class of employees for the Bliss & Laughlin Steel facility, in Buffalo, NY, to be included in the Special Exposure Cohort under the Energy Employees Occupational Illness Compensation Program Act of 2000. The initial proposed definition for the class being evaluated, subject to revision as warranted by the evaluation, is as follows:

Facility: Bliss & Laughlin Steel facility.

Location: Buffalo, NY.

Job Titles and/or Job Duties: All employees.

Period of Employment: January 1, 1948 through December 31, 1998.

FOR FURTHER INFORMATION CONTACT: Larry Elliott, Director, Office of Compensation Analysis and Support, National Institute for Occupational Safety and Health (NIOSH), 4676 Columbia Parkway, MS C-46, Cincinnati, OH 45226, Telephone 513-533-6800 (this is not a toll-free number). Information requests can also be submitted by e-mail to OCAS@CDC.GOV.

Dated: February 2, 2009.
Christine M. Branche,
Acting Director, National Institute for Occupational Safety and Health.

[FR Doc. E9-2559 Filed 2-5-09; 8:45 am]

BILLING CODE 4163-19-P